DEPARTMENT OF LABOR

29 CFR Parts 95, 96, 97, and 99

[Docket No. ETA-2025-0002]

RIN 1291-AA48

Obsolete Grant and Contract Regulations

AGENCY: Office of the Assistant Secretary for Administration and Management, Labor.

ACTION: Direct final rule; confirmation of effective date.

SUMMARY: The Department of Labor (Department) is confirming the effective date of September 2, 2025, for the direct final rule that was published in the Federal Register on July 1, 2025. This direct final rule removed obsolete grant and contract regulations in the Department of Labor's regulations. These grant and contract regulations were superseded by the Office of Management and Budget's (OMB's) Guidance for Grants and Agreements, codified in the Code of Federal Regulations (CFR), which the Department adopted and gave regulatory effect to in 2014. Accordingly, these regulations were no longer necessary, and the Department removed the regulations from the CFR since they are no longer operative.

DATES: The effective date of September 2, 2025, for the direct final rule published July 1, 2025, at 90 FR 28002, is confirmed.

ADDRESSES: Please refer to Docket ID ETA-2025-0002 when contacting the Department about the availability of information for this action. You may obtain publicly-available information related to this action by visiting https://www.regulations.gov and search for Docket ID ETA-2025-0002.

FOR FURTHER INFORMATION CONTACT: Thomas Kodiak, Administrator, Office of Grants Management, Employment and Training Administration, U.S. Department of Labor, 200 Constitution Avenue NW, Room S-4519, Washington, DC 20210, Telephone: (202) 693-6617 (voice) (this is not a tollfree number). For persons with a hearing or speech disability who need assistance using the telephone system, please dial 711 to access telecommunications relay services.

SUPPLEMENTARY INFORMATION: On July 1, 2025 (90 FR 28002), the Department published a direct final rule removing its regulations in parts 95, 96, 97, and 99 of title 29 of the CFR for programs that are no longer operative. In the direct final rule, the Department stated that, if no significant adverse comments were received, then the direct final rule would become effective on September 2, 2025. The Department received no comments on the direct final rule. Therefore, the direct final rule will become effective as scheduled.

Dean Heyl,
Assistant Secretary for Administration and Management, Labor.

[FR Doc. 2025-15652 Filed 8-15-25; 8:45 am]

BILLING CODE 4510-04-P